DEPARTMENT OF HOMELAND SECURITY

Coast Guard

[Docket No. USCG-2025-0193]

Cancellation of Obsolete Navigation and Vessel Inspection Circulars

AGENCY: Coast Guard, DHS.

ACTION: Announcement of decision.

SUMMARY: The Coast Guard announces the cancellation of three obsolete Navigation and Vessel Inspection Circulars (NVICs). NVICs are guidance documents issued by the Coast Guard that do not have the force of law. However, NVICs ensure Coast Guard inspections and other regulatory actions conducted by field personnel are complete and consistent. Similarly, the marine industry and the general public rely on NVICs as a way to assess how the Coast Guard will enforce certain regulations or conduct various marine safety programs. Thus, it is important that the public is made aware when NVICs are cancelled so as to avoid confusion.

DATES: The NVICs were cancelled on July 2, 2025.

FOR FURTHER INFORMATION CONTACT: For information about this document call or email CDR Jake Lobb, Coast Guard; telephone 202-372-1410, email Jake.R.Lobb2@uscg.mil.

SUPPLEMENTARY INFORMATION:

Background and Purpose

A Navigation and Vessel Inspection Circular (NVIC) provides detailed guidance about the enforcement or compliance with a certain Federal marine safety regulations and Coast Guard marine safety programs. While NVIC's are non-directive, meaning that they do not have the force of law, they are important “tools” for helping the public comply with the law. To best serve the public and maritime industry, the Coast Guard is reviewing and actively managing its inspections policy to ensure that all published NVICs are consistent with current practices.

The Coast Guard is issuing this document under 5 U.S.C. 552. This document serves to inform the public about the cancellation and removal of certain obsolete and outdated Coast Guard NVICs. The Coast Guard wishes to reduce confusion to the public by removing NVICs that do not reflect current practices and that potentially conflict with more modern guidance.

NVICs Being Cancelled

1. NVIC 11-91 OCEAN TOW OF JACKUP DRILLING UNITS called attention to the International Association of Drilling Contractors (IADC) booklet entitled “General Ocean Tow recommendations for Jackup Drilling Units” dated February 13, 1991. The only purpose of the NVIC was to call attention to this publication. It has no additional guidance, and the guidance referenced in the NVIC is now dated and no longer needed.

2. NVIC 10-97 GUIDELINES FOR CARGO SECURING MANUAL APPROVAL provided guidance on the applicability, preparation, and approval of Cargo Securing Manuals (CSM). The NVIC discussed the initiation of a rulemaking that would specify U.S. flag vessel CSM responsibilities, establish U.S. CSM Approval Authority responsibilities, and identify application and selection procedures for organizations seeking U.S. CSM Approval Authority delegation. This rulemaking is complete, and the regulations can be found in 33 CFR part 97. The NVIC is no longer needed.

3. NVIC 8-00 GUIDANCE REGARDING ENFORCEMENT OF THE INTERNATIONAL CONVENTION FOR SAFE CONTAINERS (CSC), 1972, FOR FREIGHT CONTAINERS WITH ONE DOOR REMOVED provided guidance regarding the transportation of commodities in freight containers meeting the International Convention for Safe Containers (CSC) construction and inspection requirements, where one door has been removed to provide extra ventilation for cargoes being transported. Guidance includes marking of the Safety Approval Plate and testing requirements. CSC was updated in 2010 and 2013 to include standards specific to the marking and structural testing requirements for one door off operation. The NVIC is no longer needed.

Dated: July 2, 2025.
J.G. Lantz,
Director of Commercial Regulations and Standards (CG-5PS).

[FR Doc. 2025-12647 Filed 7-7-25; 8:45 am]

BILLING CODE 9110-04-P